DEPARTMENT OF HEALTH AND HUMAN SERVICES

Centers for Disease Control and Prevention

[Docket Number NIOSH-126]

Notice of Public Meeting and Availability for Public Comment

AGENCY: The National Institute for Occupational Safety and Health (NIOSH) of the Centers for Disease Control and Prevention (CDC), Department of Health and Human Services (HHS).

SUMMARY: The National Institute for Occupational Safety and Health (NIOSH) of the Centers for Disease Control and Prevention (CDC) announces the following meeting and request for public comment on the Emergency Preparedness and Response Research Portfolio. The document and instructions for submitting comments can be found at http://www.cdc.gov/niosh/review/public/126/. Comments may be given orally at the following meeting, as well as provided to the NIOSH Docket Office.

Public Meeting Time and Date: 8:30 a.m.-5 p.m., March 25, 2008.

Place: Hyatt Regency Crystal City, 2799 Jefferson Davis HWY, Arlington, Virginia 22202.

Purpose of Meeting: NIOSH has developed strategic goals to address important issues surrounding the health and safety of emergency responders. The full list of goals can be accessed through the NIOSH Web site at: http://www.cdc.gov/niosh/programs/epr/goals.html.

The eight overarching goals are:

1. SAFETY CLIMATE: Improve the organization of emergency response work to reduce exposure to risks and to enhance the health and safety of emergency responders.

2. PERSONAL PROTECTIVE EQUIPMENT (PPE): Improve PPE assortment, proper selection and wear, and decontamination.

3. ENGINEERING/TECHNOLOGICAL INTERVENTIONS AND CONTROLS: Improve engineering controls, technology, and tools to minimize responders' exposures to hazards associated with chemical, biological, radiation or nuclear (CBRN), toxic industrial compound (TIC), and other hazardous materials.

4. CHARACTERIZATION/ASSESSMENT OF POTENTIAL HAZARDS: Develop methods to evaluate the spatial and temporal distribution of gases, vapors, and aerosols, as well as liquids or particulates associated with surface contamination.

5. SUBGROUP-SPECIFIC STRATEGIES: Improve subgroup awareness, develop targeted messages, and expand subgroup-preferred channels.

6. SURVEILLANCE: Develop surveillance reporting systems to improve emergency responder safety and health through the systematic collection, analysis, and interpretation of exposure, hazard, injury, and illness data.

7. ENVIRONMENTAL MICROBIOLOGY: Improve the understanding of environmental microbiology of threat agents, including environmental factors that influence the introduction, spread, and control of these agents.

8. ENVIRONMENTAL AND BIOLOGICAL MONITORING OF TERRORISM AGENTS: Improve the identification and characterization of terror agents to reduce exposures to response and remediation workers.

Stakeholders are encouraged to review the strategic goals on the NIOSH Web site (http://www.cdc.gov/niosh/programs/epr/goals.html ) in order to prepare their comments/feedback around the following topics to be discussed. Written responses can be submitted in person at the meeting or by emailing nioshdocket@cdc.gov. Please reference Docket Number NIOSH-126 in your response.

• Give your opinion about the top three goals needed to improve the safety and health of emergency responders.

• Discuss why these are the top goals. Address any obstacles in achieving these goals.

• Talk about how research can help the nation address the top goals that you have identified. Provide a couple of examples of research ideas for each of your top goals identified.

• Discuss opportunities you see on the horizon that could lead to improvements in emergency responder safety and health.

Please include as much information as might be useful for understanding the safety or health research priority you identify. Such information could include characterization of the frequency and severity with which the injury, illness, or hazardous exposure is occurring and of the factors you believe might be causing the health or safety issue. Input is also requested on the types of research that you believe might make a difference and which partners (e.g., specific industry associations, labor organizations, research organizations, government agencies) should be involved in informing research efforts and solutions.

Status: The public meeting is open to everyone, including all workers, professional societies, organized labor, employers, researchers, health professionals, government officials, and elected officials. The public meeting will address priorities for emergency preparedness and response research during both morning and afternoon public comment periods. Participants are invited to speak for 5 minutes about the discussion topics listed above. Participants may register to speak during either the morning or afternoon session, though they are encouraged to stay for both sessions.

Broad participation is desired. All participants are requested to register for the free meeting by e-mailing nioshdocket@cdc.gov or on site the day of the meeting, space permitting. Participants wishing to speak are encouraged to register early. This meeting is open to the public, limited only by the space available.

Background: The mission of the NIOSH Emergency Preparedness and Response (EPR) Program portfolio is to advance research and collaborations to protect the health and safety of emergency response providers and recovery workers by preventing diseases, injuries, and fatalities in anticipation of and during responses to natural and man-made disasters and novel emergent events.

The EPR Program research portfolio cuts across the eight sectors that are the focus of the National Occupational Research Agenda (NORA). NORA is a partnership program to stimulate innovative research and improved workplace practices. Unveiled in 1996, NORA has become a research framework for NIOSH and the nation. Diverse parties collaborate to identify the most critical issues in workplace safety and health.

Public Comment Period: Those unable to attend the public meeting may submit input to the NIOSH Docket Office within 60 days after the date of publication of this notice in the Federal Register. Reference NIOSH Docket 126 in comments.

Contact Person for Technical Information: Dr. Renee Funk, EPR Portfolio Coordinator at (404) 498-2499 or e-mail rfunk@cdc.gov.

Comments may be e-mailed to nioshdocket@cdc.gov or sent via postal mail to: Centers for Disease Control and Prevention, NIOSH Docket-126, Robert A. Taft Laboratories (C-34), 4676 Columbia Parkway, Cincinnati, OH 45226.

Additional Information: A limited number of rooms have been reserved in the same hotel as the meeting for participants who require lodging for the night of March 24th. Please contact the hotel reservations desk for rooms under “NIOSH Town Hall Meeting” by the March 3rd deadline at (703) 418-7233.

Reference: More information about NIOSH/EPR can be found on the NIOSH Web page at: http://www.cdc.gov/niosh/programs/epr/.

Dated: February 5, 2008.
James D. Seligman,
Chief Information Officer, Centers for Disease Control and Prevention.

[FR Doc. E8-2743 Filed 2-12-08; 8:45 am]

BILLING CODE 4163-19-P